DEPARTMENT OF TRANSPORTATION

Federal Aviation Administration

One-Year Runway Incursion Information and Evaluation Program

AGENCY: Federal Aviation Administration (FAA), DOT.

ACTION: General statement of policy.

SUMMARY: This document announces a one-year program to gather information from airmen who are involved in runway incursions and to evaluate that information in an effort to determine the root causes of such events. The document also states the FAA's policy concerning enforcement-related incentives that will be offered to airmen to encourage them to participate in the program and the FAA's policy concerning the use for enforcement purposes of information provided by airmen under the program.

DATES: Effective date: March 17, 2000. Expiration Date: The Runway Incursion Information and Evaluation Program expires on March 19, 2001.

FOR FURTHER INFORMATION CONTACT: Ross Cusimano, AFS-200, Air Transportation Division, Flight Standards Service, Federal Aviation Administration, 800 Independence Avenue, SW., Washington, DC 20591; Telephone: (202) 267-8166.

SUPPLEMENTARY INFORMATION:

Background

In recent years, the number of runway incursions has increased significantly. As a result, the Administrator has identified as a high priority the implementation of several initiatives aimed at reducing or eliminating accidents or incidents attributable to runway incursions. These initiatives “include efforts that address pilot familiarity with airports, navigation and communications improvements, pilot/controller memory and attention, controller skill development, compliance with FAA regulations by pilots and controllers, and improved dissemination of safety/security-related information.” (1998 Airport Surface Operations Safety Action Plan, page 3). (Available on the Internet at http://www.faa.gov/ats/ato/ato102/files/actionplan/index.html).

A runway incursion is defined as “any occurrence at an airport involving an aircraft, vehicle, person, or object on the ground that creates a collision hazard or results in loss of separation withan aircraft taking off, intending to take off, landing, or intending to land.” (FAA Order 8020.11A, Chapter 1, Paragraph 5). Runway incursions are grouped into four categories: Pilot Deviations, Operational Errors, Operational Deviations, and Vehicle or Pedestrian Deviations. Pilot deviations are the leading category of runway incursions, increasing by 38 percent from 1997 to 1998. An analysis of runway incursion data indicates runway incursions most likely to cause accidents generally occur at complex, high volume airports. (1998 Airport Surface Operations Safety Action Plan, page 3). The data also show there is a high incidence of runway incursions involving general aviation pilots that often result from misunderstood controller instructions, confusion, disorientation, and/or inattention. Id. Because runway incursions can involve and affect such a wide cross section of pilot skill levels and airport operations, the FAA has concluded that runway incursion prevention measures must be as broad in scope as possible.

One-Year Runway Incursion Information and Evaluation Program (RIIEP)

The Administrator has set a goal to reduce runway incursions by 15 percent in calendar year 2000. To help achieve this goal, the FAA is developing programs designed to reduce pilot deviations through enhanced education and training of pilots and crewmembers, and to gather and evaluate more data on the causes of runway incursions.

To assist with the development of a comprehensive compliance program for airport surface operations, the FAA is implementing a one-year program through which it seeks to gain information about runway incursions by interviewing airmen involved in such events.* While the FAA is immediately aware through the Air Traffic Service of the occurrence of a runway incursion, oftentimes the FAA knows little about why the incursion happened and the factors or events that may have led to it. The FAA believes, that given certain assurances under the RIIEP, airmen who are involved in runway incursion may be willing to share with FAA inspectors valuable safety information about those incursions. This information may help the FAA to determine root causes of runway incursions and lead to the development of effective corrective actions to help reduce or eliminate this problem.

* The RIIEP does not apply to foreign airmen involved in runway incursions.

Under the RIIEP, each regional Flight Standards Division manager will establish a group of regional aviation safety inspectors (operations) who will serve as a Flight Standards Incursion Team (FSIT) and will coordinate National Runway Safety Program (NRSP) activities at the regional level. The FSIT will be responsible for coordinating the activities of FAA field inspectors who will interview the airman involved in a runway incursion during normal working hours as soon as practicable after the incursion occurs. The field inspectors will report in writing the results of an interview to the FSIT. The FSIT will review the written report of the interview and forward the report to the national coordinator for NRSP in the Flight Standards Service, Headquarters.

Field inspectors will advise airmen that their participation in the interview process is voluntary. The interviews may be conducted in person, or by telephone. Questions that might be asked of airmen during the interview include the following:

• Were the airport signage, lighting, and markings adequate or were they a contributing factor to the runway incursion?

• What were the lighting conditions when the runway incursion occurred?

• Was the airman familiar with the airport layout?

• Were there language problems that contributed to the runway incursion?

• What was the airman's experience in operations at tower operated/high density airports?

• What does the airman believe caused the runway incursion?

• What would have helped to prevent the runway incursion from happening?

Enforcement Policy

The FAA through the Air Traffic Service ordinarily is immediately aware when a runway incursion occurs. Oftentimes, the Air Traffic Service's report of a pilot deviation or a vehicle or pedestrian deviation associated with a runway incursion will result in the opening of an enforcement investigative report for an alleged regulatory violation(s) and either legal enforcement action (certificate action or civil penalty action) or administrative action (letter of correction or warning notice) being taken against the airman involved.

To encourage participation in the RIIEP, the FAA has decided to offer certain assurances to airmen regarding enforcement action that typically would be taken for an alleged violation resulting from a runway incursion. Under the RIIEP, if an airman cooperates in answering questions that will assist in identifying the cause of the runway incursion, the FAA ordinarily does not expect to take punitive legal enforcement action (i.e., civil penalty action or a fixed period of suspension) against him or her for an alleged violation that may result from the incursion, provided the alleged violation does not appear to be intentional or to involve criminal conduct, and the runway incursion did not result in an accident.

In certain cases, the FAA may determine an airman should complete corrective action to help preclude the recurrence of a runway incursion, or should at least be warned that his or her conduct was allegedly in violation of subtitle VII of Title 49 of the U.S. Code or the Federal Aviation Regulations. In these cases, the FAA will issue an appropriate administrative action to the airman.

If alleged violation(s) resulting from the runway incursion or the circumstances surrounding the runway incursion demonstrate, or raise a question of, a lack of qualification of the airman, then the FAA will proceed with appropriate remedial action, which might include reexamination and/or certificate revocation or certificate suspension pending reexamination.

The FAA recognizes airmen will have concerns the information they provide under this program will be used by the FAA to take enforcement actions against them. The FAA, however, does not expect to use information provided by airmen during interviews conducted by FAA inspectors under the RIIEP in any FAA punitive legal enforcement action.

The RIIEP will be in effect for one year beginning the date of publication of this notice.

Issued in Washington, DC on March 13, 2000.
Jane F. Garvey,
Administrator.

[FR Doc. 00-6683 Filed 3-16-00; 8:45 am]

BILLING CODE 4910-13-M